DEPARTMENT OF THE INTERIOR

Bureau of Land Management

[MT-060-01-1020-PG]

Notice of Public Meeting, Central Montana Resource Advisory Council

AGENCY: Bureau of Land Management, Interior.

ACTION: Summary of public meeting.

SUMMARY: In accordance with the Federal Land Policy and Management ACT (FLMPA) and the Federal Advisory Committee Act of 1972 (FACA), the U.S. Department of the Interior, Bureau of Land Management (BLM) Central Montana Resource Advisory Council (RAC) will meet as indicated below.

DATES: The meeting will be held December 3, 2003 at the Holiday Inn, in Great Falls, Montana. The meeting will begin at 8 a.m. with a one-hour public comment period. The meeting is scheduled to adjourn at approximately 5:30 p.m.

SUPPLEMENTARY INFORMATION: This 15-member council advises the Secretary of the Interior, through the BLM, on a variety of planning and management issues associated with public land management in north central Montana. At this meeting, the RAC will consider these topics, which deal with the Blackleaf Project along the Rocky Mountain Front:

A BLM/U.S. Forest Service update

A report from Startech Energy

An update on cultural/Native American interests

A presentation by environmental/recreation interests

A report from a Teton County Commissioner

An update from Montana Fish, Wildlife and Parks

The RAC will then participate in a question/answer period with the presenters

The RAC will then consider making recommendations concerning this project

The RAC will then address administrative issues (next meeting date/location)

All meetings are open to the public. The public may present written comments to the RAC. Each formal RAC meeting will also have time allocated for hearing public comments. Depending on the number of persons wishing to comment and time available, the time for individual oral comments may be limited. Individuals who plan to attend and need special assistance, or have questions about this meeting should contact the BLM as provided below.

FOR FURTHER INFORMATION CONTACT: David L. Mari, Lewistown Field Manager, Airport Road, PO Box 1160, Lewistown, MT 59457, (406) 538-7461.

Dated: November 12, 2003.
Chuck Otto,
Associate Field Manager, Renewable Resources.

[FR Doc. 03-28727 Filed 11-17-03; 8:45 am]

BILLING CODE 4310-$$-P